ENVIRONMENTAL PROTECTION AGENCY

[FRL-8580-4]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses To Agency Clearance Requests

OMB Approvals

EPA ICR Number 1550.07; Conflict of Interest Rule #1 (Renewal); was approved 05/09/2008; OMB Number 2030-0023; expires 05/31/2011.

EPA ICR Number 0186.11; NESHAP for Vinyl Chloride (Renewal); in 40 CFR part 61, subpart F; was approved 05/15/2008; OMB Number 2060-0071; expires 05/31/2011.

EPA ICR Number 1125.05; NESHAP for Beryllium Rocket Motor Fuel Firing (Renewal); in 40 CFR part 61, subpart D; was approved 05/15/2008; OMB Number 2060-0394; expires 05/31/2011.

EPA ICR Number 1681.06; NESHAP for Epoxy Resin and Non-Nylon Polyamide Production (Renewal); in 40 CFR part 63, subpart W; was approved 05/15/2008; OMB Number 2060-0290; expires 05/31/2011.

EPA ICR Number 1722.05; Emission Certification and Compliance Requirements for Marine Spark-ignition Engines (Renewal); in 40 CFR part 91, and 40 CFR part 805; was approved 05/15/2008; OMB Number 2060-0321; expires 05/31/2011.

EPA ICR Number 1367.08; Regulation of Fuels and Fuel Additives: Gasoline Volatility; in 40 CFR 80.27; was approved 05/15/2008; OMB Number 2060-0178; expires 05/31/2011.

EPA ICR Number 2258.01; PM 2.5 NAAQS Implementation Rule (Final Rule); in 40 CFR 51.100; was approved 05/15/2008; OMB Number 2060-0611; expires 05/31/2011.

EPA ICR Number 1676.05; Clean Air Act Tribal Authority (Renewal); in 40 CFR 35, 40 CFR part 49, 40 CFR part 50, and 40 CFR part 81; was approved 05/15/2008; OMB Number 2060-0306; expires 05/31/2011.

EPA ICR Number 1826.04; Transition Program for Equipment Manufacturers (Renewal); in 40 CFR 89.102 and 40 CFR part 1039; was approved 05/16/2008; OMB Number 2060-0369; expires 05/31/2011.

EPA ICR Number 2260.02; Confidential Financial Disclosure Form for Special Government Employees Serving on Federal Advisory Committees at the U.S. Environmental Protection Agency; was approved 05/16/2008; OMB Number 2090-0029; expires 05/31/2011.

EPA ICR Number 0820.10; Hazardous Waste Generator Standards (Renewal); in 40 CFR 262.34, 262.40(c), 262.43, 262.44(c), 262.53-57, 262.60, 265.190-193, and 265.196; was approved 05/22/2008; OMB Number 2050-0035; expires 05/31/2011.

EPA ICR Number 2020.03; Federal Implementation Plans under the Clean Air Act for Indian Reservations in Idaho, Oregon, and Washington (Renewal); in 40 CFR part 49, subpart M; was approved 05/23/2008; OMB Number 2060-0558; expires 05/31/2011.

EPA ICR Number 2130.03; Transportation Conformity Determinations for Federally Funded and Approved Transportation Plans, Programs, and Projects (Renewal); in 40 CFR part 93, subpart A; was approved 05/23/2008; OMB Number 2060-0561; expires 05/31/2011.

EPA ICR Number 1596.07; Significant New Alternatives Policy (SNAP) Program (Renewal); in 40 CFR part 82, subpart G; was approved 06/05/2008; OMB Number 2060-0226; expires 06/30/2011.

EPA ICR Number 1655.06; Regulation of Fuels and Fuel Additives: Detergent Gasoline (Renewal); in 40 CFR part 80, subpart G; was approved 06/04/2008; OMB Number 2060-0275; expires 06/30/2011.

Dated: June 6, 2008.
Sara Hisel-McCoy,
Director, Collection Strategies Division.

[FR Doc. E8-13613 Filed 6-16-08; 8:45 am]

BILLING CODE 6560-50-P